ENVIRONMENTAL PROTECTION AGENCY

[EPA-HQ-ORD-2009-0225; FRL-8904-4]

Board of Scientific Counselors (BOSC), 2009 Clean Air Subcommittee Meeting

AGENCY: Environmental Protection Agency (EPA).

ACTION: Notice of cancellation of a meeting.

SUMMARY: The Environmental Protection Agency, Office of Research and Development (ORD), announces the cancellation of a meeting of the Board of Scientific Counselors (BOSC) Clean Air Subcommittee. This meeting, a teleconference on April 30, 2009, was announced in a Federal Register Notice published on April 8, 2009 (74 FR 15967). The purpose of this meeting was to provide an overview of ORD and the Clean Air program, and to prepare for the June 8-10, 2009 face-to-face meeting of the subcommittee. The proposed agenda topics will be covered during the May 21, 2009 meeting (telecon).

FOR FURTHER INFORMATION CONTACT: The Designated Federal Officer via mail at: Heather Drumm, Mail Code 8104-R, Office of Science Policy, Office of Research and Development, Environmental Protection Agency, 1200 Pennsylvania Avenue, NW., Washington, DC 20460; via phone/voice mail at: (202) 564-8239; via fax at: (202) 565-2911; or via e-mail at: drumm.heather@epa.gov.

Dated: May 5, 2009.
Fred Hauchman,
Director, Office of Science Policy.

[FR Doc. E9-11222 Filed 5-13-09; 8:45 am]

BILLING CODE 6560-50-P